NUCLEAR REGULATORY COMMISSION

[Docket No. 050-206; NRC-2009-0519]

Notice of Availability of Environmental Assessment and Finding of No Significant Impact Approval of the License Termination Plan for the San Onofre Nuclear Generating Station Unit 1 Reactor Facility, San Onofre, CA

AGENCY: Nuclear Regulatory Commission.

ACTION: Notice of availability.

FOR FURTHER INFORMATION CONTACT: James C. Shepherd, Project Engineer, Decommissioning and Uranium Recovery Licensing Directorate, Division of Waste Management and Environmental Protection, Office of Federal and State Materials and Environmental Management Programs, U.S. Nuclear Regulatory Commission, Rockville, Maryland 20852. Telephone: (301) 415-6712; fax number: (301) 415-5398; e-mail: james.shepherd@nrc.gov.

SUPPLEMENTARY INFORMATION:

I. Introduction

The U.S. Nuclear Regulatory Commission (NRC) is considering issuing an amendment to Facility Operating License No. DPR-13, issued to Southern California Edison (SCE or licensee), that would authorize SCE to remove the off-shore portion of the Circulating Water System (CWS) from its NRC license. SCE has isolated this portion of the system from the plant and will abandon it in place. SCE requested this action in its application dated December 19, 2007, in response to which the NRC staff has prepared a safety evaluation report (SER).

The NRC staff has also prepared an environmental assessment (EA) to determine the environmental effects from the proposed action. Based on the EA, the NRC has concluded that a finding of no significant impact (FONSI) is appropriate with respect to the proposed action. The amendment will be issued to the licensee following publication of this FONSI and EA summary in the Federal Register.

II. EA Summary

The purpose of the proposed action is to amend the NRC license to remove the off-shore portion of the CWS from the license for San Onofre Nuclear Generating Station Unit 1. NRC verified that the licensee conducted sampling of the CWS and surrounding area, and performed dose analyses that demonstrate that the calculated dose to a member of the public is below the NRC limit of 25 millirem per year for areas released for unrestricted use, as defined in 10 CFR 20.1402. Specifically, SCE conducted characterization surveys of the areas to be released, during which it identified low concentrations of radioactive cesium, cobalt, and sodium in the sediments of the SONGS-1 CWS. These concentrations result in a calculated dose to the public of less than 1 millirem per year (mrem/yr), which is well below the NRC unrestricted use limit of 25 mrem/yr.

The staff has prepared this EA in support of the proposed license amendment. The NRC has examined the licensee's proposed amendment request and concluded that there are no significant radiological environmental impacts associated with this action, and it will not result in significant non-radiological environmental impacts.

III. Finding of No Significant Impact

On the basis of the EA, NRC has concluded that there are no significant environmental impacts from the proposed amendment, and that preparation of an environmental impact statement is not warranted.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: (1) The licensee's application, dated December 19, 2007, ML080580468, (2) the EA, ML093010071, and (3) the SER, ML092670125. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, OF-21, One White Flint North, 11555 Rockville Pike, Rockville, MD 20852. The PDR reproduction contractor will copy documents for a fee.

Dated at Rockville, Maryland this 20th day of November 2009.
For the Nuclear Regulatory Commission.
Keith I. McConnell,
Deputy Director, Decommissioning and Uranium Recovery Licensing Directorate, Division of Waste Management and Environmental Protection, Office of Federal and State Materials and Environmental Management Programs.

[FR Doc. E9-28509 Filed 11-27-09; 8:45 am]

BILLING CODE 7590-01-P